DEPARTMENT OF DEFENSE

Office of the Secretary

[No. DOD-2007-HA-0002]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 27, 2007.

ADDRESSES: You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: all submissions received must include the agency name and docket number or Regulatory Information Number (RIN) for this Federal Register document. The general policy for comments and other submissions from members of the public is to make these submissions available for public view on the Internet at http://www.regulations.gov as they are received without change, including any personal identifiers or contact information.

FOR FURTHER INFORMATION CONTACT: To request more information on this proposed information collection or to obtain a copy of the proposal and associated collection instruments, please write to Office of the Assistant Secretary of Defense for Health Affairs (OASD), TRICARE—Health Program Analysis and Evaluation, ATTN: LtCol Dawn Erckenbrack, 5111 Leesburg Pike, Suite 801A, Falls Church, VA 22041-3206, or call (703) 681-0039.

Title and OMB Number: TRICARE Network Provider Survey; OMB Control Number 0720-TBD.

Needs and Uses: The goals of this survey effort are to stress TRICARE Network Provider satisfaction, attitudes and perceptions regarding the services provided by civilian Health Care Support and Service Contractors (HCSS) and TRICARE.

Affected Public: Individuals or Households; Federal Government.

Annual Burden Hours: 2,790.

Number of Respondents: 9,000.

Responses per Respondent: 1.

Average Burden per Response: .31.

Frequency: Annually.

SUPPLEMENTARY INFORMATION:

Summary of Information Collection

The goals of this survey effort are to assess TRICARE Network Provider satisfaction, attitudes and perceptions regarding the services provided by civilian Health Care Support and Service Contractors (HCSS) and TRICARE. The survey focuses on basic business functions provided by the HCSS Contractors such as inquiries, provider communications, claims processing, appeals, provider enrollment, medical review and provider audit and reimbursement. The survey will be conducted yearly and annual reports of the results will be available via an online reporting system for use by TMA (HPA&E). The survey will be based on the Medicare Contractor Provider Satisfaction Survey (MCPSS) core instrument that may include additional DoD specific questions. The MCPSS provides a standardized instrument for measuring providers' perspectives on satisfaction with their Medicare Contractors as well as providing the capability to make statistically valid comparisons of results to national and system-wide statistical findings.

Dated: January 18, 2007.
Patricia L. Toppings,
Alternate OSD Federal Register, Liaison Officer, Department of Defense.

[FR Doc. 07-331 Filed 1-25-07; 8:45 am]

BILLING CODE 5007-06-M